FEDERAL COMMUNICATIONS COMMISSION

47 CFR Part 73

[DA 01-529, MM Docket No. 00-242, RM-9998]

Digital Television Broadcast Service; Weston, WV

AGENCY: Federal Communications Commission.

ACTION: Final rule.

SUMMARY: The Commission, at the request of Withers Broadcasting Company of West Virginia, licensee of station WDTV(TV), substitutes DTV channel 6 for DTV channel 58 at Weston, West Virginia. See 65 FR 7206, December 12, 2000. DTV channel 6 can be allotted to Weston in compliance with the principle community coverage requirements of section 73.625(a) at reference coordinates (39-04-29 N. and 80-25-28 W.) with a power of 10.0, HAAT of 253 meters and with a DTV service population of 501 thousand. With this action, this proceeding is terminated.

DATES: Effective April 20, 2001.

FOR FURTHER INFORMATION CONTACT: Pam Blumenthal, Mass Media Bureau, (202) 418-1600.

SUPPLEMENTARY INFORMATION: This is a synopsis of the Commission's Report and Order, MM Docket No. 00-242, adopted March 5, 2001, and released March 6, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under West Virginia, is amended by removing DTV channel 58 and adding DTV channel 6 at Weston.

Federal Communications Commission.
Barbara A. Kreisman,
Chief, Video Services Division, Mass Media Bureau.

[FR Doc. 01-5727 Filed 3-7-01; 8:45 am]

BILLING CODE 6712-01-P